COMMODITY FUTURES TRADING COMMISSION

Notice; Establishment of Energy Markets Advisory Committee

The Commodity Futures Trading Commission has determined to establish a new advisory committee, the Energy Markets Advisory Committee. The purpose of the committee is to conduct public meetings, to submit reports and recommendations to the Commission, and otherwise to serve as a vehicle for discussion and communication on matters of concern to exchanges, firms, end users and regulators regarding energy markets and their regulation by the Commission. The Energy Markets Advisory Committee will have no operational responsibilities. The Commission will seek to achieve a balanced membership by appointing representatives of a cross section of the groups and interests involved in or affected by the Commission's actions in the energy area.

The charter of the Energy Markets Advisory Committee will become effective upon its filing pursuant to 5 U.S.C. App. 2 § 9(c). The Commission expects to file the charter promptly upon completion of the 15 day notice period specified by 41 CFR 102-3.65(b).

The Commission has determined that establishment of the Energy Markets Advisory Committee is in the public interest and is necessary to enable the Commission to carry out its responsibilities in the most effective and responsive manner. Since the enactment of the Commodity Futures Modernization Act of 2000, there have been important new developments in energy markets that create a need for consideration of adjustments in current regulatory and legislative approaches to ensure that the Commission has the means to protect market integrity and competition, while preserving opportunities for innovation and increases in efficiency. This is particularly true in light of evidence that some of the newer energy markets that have emerged since the Modernization Act have taken on some of the characteristics and price-discovery functions of traditional futures markets. Moreover, there is every reason to expect that both the importance of markets for managing risks associated with the price and availability of energy and innovation in the structure and operation of such markets will continue to expand, raising new regulatory issues in the future. In these circumstances, an advisory committee focused on energy markets will significantly advance the Commission's ability to carry out its mission.

Interested persons may obtain information by writing to the Commodity Futures Trading Commission, Three Lafayette Centre, 1155 21st Street, NW., Washington, DC 20581.

Issued in Washington, DC on February 11, 2008, by the Commission.
David A. Stawick,
Secretary of the Commission.

[FR Doc. E8-2953 Filed 2-14-08; 8:45 am]

BILLING CODE 6351-01-P